DEPARTMENT OF THE INTERIOR

National Park Service

Announcement of Subsistence Resource Commission Meeting.

AGENCY: National Park Service.

ACTION: Announcement of Subsistence Resource Commission meeting.

SUMMARY: The Superintendent of Aniakchak National Monument and the Chairperson of the Subsistence Resource Commission for Aniakchak National Monument announce a forthcoming meeting of the Aniakchak National Monument Subsistence Resource Commission. The following agenda items will be discussed:

(1) Call to order.

(2) SRC Roll Call and Confirmation of Quorum.

(3) Welcome and Introductions.

(4) Review and Adopt Agenda.

(5) Review and adopt minutes from the April 4, 2000 meeting.

(6) Commission Purpose.

(7) Status of Membership.

(8) Public and Agency Comments.

(9) Old Business:

a.Status of SRC Support Letters.

(1) Roster Regulation Proposed Rule Publication.

(2) Customary Trade within Aniakchak National Monument and Preserve.

(3) (3) Trapping Furbearers with Firearm within Aniakchak National Monument and Preserve.

(4) SRC Chairs Workshop 1999 Recommendations.

(5) Status of Geographic Place Names Request.

b. Aniakchak National Monument and Preserve Commercial Visitor Services Report.

c. Status of SRC Hunting Program Recommendations.

(1) 97-1, Establish One-Year Minimum Residency Requirement for Resident Zone Communities.

(2) 97-2, Establish a Registration Permit Requirement within Aniakchak National Preserve for Non-subsistence Fish and Wildlife Harvest Activities.

(3) Draft Hunting Plan Recommendation 2000-1: Between September 10-20, Establish a Corridor in Aniakchak National Preserve Where NPS Would Limit Commercial Guide Party Size, Access and drop-off Locations.

(10) New Business:

a. October 2000 SRC Chairs Workshop Report.

b. Federal Subsistence Board Update.

(1) Review Unit 9E Board Actions Taken during May 2000.

(2) Bristol Bay Regional Council Report.

(3) Review Wildlife Proposals for 2001.

(4) Review Fish Proposals for 2001

(11) Status of Draft Aniakchak National Monument and Preserve SubsistenceManagement Plan.

(12) Election of SRC Chair and Vice Chair.

(13) Public and Agency Comments.

(14) SRC work session (draft proposals, letters, and recommendations).

(15) Set time and place of next SRC meeting.

(16) Adjournment.

DATES: The meeting will begin at 10 a.m. on Tuesday, November 28, 2000 and conclude at approximately 6 p.m. The meeting will reconvene at 9 a.m. on Wednesday, November 29 and adjourn at approximately 1 p.m.

LOCATION: Community Subsistence Building, Chignik Lake, Alaska

FOR FURTHER INFORMATION CONTACT: Mary McBurney at Phone (907) 257-2633, or Tom O'Hara, Subsistence Manager, Aniakchak National Monument, P.O. Box 7, King Salmon, Alaska 99613. Phone (907) 246-2101.

SUPPLEMENTARY INFORMATION: The Subsistence Resource Commissions are authorized under Title VIII, Section 808, of the Alaska National Interest Lands Conservation Act, Pub. L. 96-487, and operate in accordance with the provisions of the Federal Advisory Committees Act.

Thomas J. Ferranti,
Acting Regional Director.

[FR Doc. 00-29672 Filed 11-20-00; 8:45 am]

BILLING CODE 4310-70-P